DEPARTMENT OF COMMERCE

International Trade Administration

A-475-824, A-201-822

Certain Stainless Steel Sheet and Strip in Coils from Italy and Mexico: Extension of Time Limits for Preliminary and Final Results of Full Five-year (“Sunset”) Reviews of Antidumping Duty Orders

AGENCY: Import Administration, International Trade Administration, Department of Commerce.

EFFECTIVE DATE: September 23, 2010.

FOR FURTHER INFORMATION CONTACT: David Cordell or Angelica Mendoza, AD/CVD Operations, Office 7, Import Administration, International Trade Administration, U.S. Department of Commerce, 14th Street and Constitution Avenue, NW, Washington, DC 20230; telephone: (202) 482-0408, or (202) 482-3019, respectively.

SUPPLEMENTARY INFORMATION:

Background

On June 2, 2010, the Department published the notice of initiation of the sunset reviews of the antidumping duty orders on certain stainless steel sheet and strip (SSSS) in coils from, inter alia, Italy and Mexico, pursuant to section 751(c) of the Tariff Act of 1930, as amended (the Act). See Initiation of Five-year (“Sunset”) Review, 75 FR 30777 (June 2, 2010) (Notice of Initiation).

The Department received a notice of intent to participate in all of the sunset reviews of the antidumping duty orders on SSSS in coils from the following petitioners: the AK Steel Corporation; Allegheny Ludlum Corporation; North American Stainless; United Steelworkers (“USW”); UAW Local 3303; and UAW Local 4104 (collectively, petitioners) within the deadline specified in 19 CFR 351.218(d)(1)(i). The petitioners claimed interested party status under sections 771(9)(C) and (D) of the Act stating that its individual members are each producers in the United States of a domestic like product.

The Department received complete substantive responses to the Notice of Initiation for all antidumping duty orders covering SSSS in coils from the domestic interested parties within the 30-day deadline specified in 19 CFR 351.218(d)(3)(i). The Department received a complete and timely substantive response in the sunset review of SSSS in coils from Italy from the following respondent interested parties: ThyssenKrupp Acciai Speciali Terni S.P.A. and Acciai Speciali Terni (USA) (collectively, TKAST). The Department received a complete and timely substantive response in the sunset review of SSSS in coils from Mexico from the following respondent interested parties: ThyssenKrupp Mexinox S.A. de C.V. and Mexinox USA, Inc. (collectively, Mexinox), within the applicable deadline specified in 19 CFR 351.218(d)(3)(i).¹

¹ Domestic interested and respondent parties filed substantive responses on July 2, 2010.

On July 6, 2010, the Department received a request from domestic interested parties for an extension of the deadline for filing rebuttal comments to the substantive responses submitted by respondent parties. Pursuant to 19 CFR 351.302(b), domestic and respondent parties were granted an extension to file rebuttal comments to the substantive responses until July 9, 2010. On July 9, 2010, the Department received rebuttal comments to the substantive responses from the domestic interested parties and the respondents with respect to the sunset reviews covering the antidumping duty orders on SSSS in coils from Italy and Mexico.

19 CFR 218(e)(1)(ii)(A) provides that the Secretary normally will conclude that respondent interested parties have provided adequate response to a notice of initiation where it receives complete substantive responses from respondent interested parties accounting on average for more than 50 percent, by volume, or value basis, if appropriate, of the total exports of the subject merchandise to the United States over the five calendar years preceding the year of publication of the notice of initiation. On July 22, 2010, the Department determined that the filed substantive responses constituted adequate responses to the notice of initiation. See Memoranda to Richard Weible, Director, AD/CVD Operations, Office 7, entitled “Adequacy Determination in Five-year “Sunset” Review of the Antidumping Duty Order on Certain Stainless Steel Sheet and Strip (SSSS) in Coils from Italy (2005-2009)” dated July 22, 2010; and, “Adequacy Determination in Five-year “Sunset” Review of the Antidumping Duty Order on Certain Stainless Steel Sheet and Strip (SSSS) in Coils from Mexico (2005-2009)” dated July 22, 2010. In accordance with 19 CFR 351.218(e)(2)(i), on July 22, 2010, the Department determined to conduct full sunset reviews of the antidumping duty orders covering SSSS in coils from Italy and Mexico, and accordingly, notified the U.S. International Trade Commission. See Letter to Ms. Catherine DeFilippo, Director, Office of Investigations, U.S. International Trade Commission, from James Maeder, Director, Office 2, AD/CVD Operations, entitled “Expedited and Full Sunset Reviews of the Antidumping Duty Orders Initiated in June 2010,” dated July 22, 2010.

Extension of Time Limits for Preliminary and Final Results of Reviews

Section 751(c)(5)(A) of the Act provides for the completion of a full sunset review within 240 days of the publication of the initiation notice. However, the Department may extend the period of time for making its determination by not more than 90 days, if it determines that the review is extraordinarily complicated in accordance with section 751(c)(5)(B) of the Act,.

We determine that these reviews are extraordinarily complicated, pursuant to sections 751(c)(5)(C)(i), (ii) and (iii) of the Act, because the Department must consider a number of case-specific complex factual issues such as the trends of pre-order and post-order shipment volumes in the sunset review of the antidumping duty order on SSSS in coils from Mexico; and the Department requires additional time to analyze several complicated issues presented in the substantive comments and rebuttal comments in the case of the sunset review of the antidumping duty order on SSSS in coils from Italy. Therefore, the Department requires additional time to complete its analysis in each of these sunset reviews. Accordingly, the Department is extending the deadlines to complete its sunset reviews of the antidumping duty orders covering SSSS in coils from Italy and Mexico by 90 days. As a result, the Department intends to issue the preliminary results of the full sunset reviews by December 20, 2010,² and the final results by April 28, 2011.

² The revised deadline falls on Sunday, December 19, 2010. It is the Department's long-standing practice, however, to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for the completion of these preliminary results is revised to December 20, 2010.

This notice is issued in accordance with sections 751(c)(5)(B) and (C) of the Act.

Dated: September 16, 2010.
Susan H. Kuhbach,
Acting Deputy Assistant Secretary for Antidumping and Countervailing Duty Operations.

[FR Doc. 2010-23815 Filed 9-23-10; 8:45 am]

BILLING CODE 3510-DS-S